DEPARTMENT OF LABOR

Office of the Secretary

Delegation of Authority and Assignment of Responsibility to the Assistant Secretary for Veterans' Employment and Training Services

On April 22, 2002, the Secretary of Labor issued a memorandum to the Assistant Secretary for Veterans' Employment and Training Services delegating authority and assigning responsibility for carrying out the functions and authority vested in the Secretary of Labor pursuant to the Uniformed Services Employment and Reemployment Rights Act of 1994, Pub. L. 103-353, 38 U.S.C. 4301-4333, and Section 3 of the Veterans Employment Opportunities Act of 1998, Pub. L. 105-339, 5 U.S.C. 3330a. A copy of that memorandum is annexed hereto as an Appendix.

FOR FURTHER INFORMATION CONTACT: Nick Dawson, Veterans' Employment and Training Services, at (202) 693-4711. This is not a toll-free number.

Signed in Washington, DC, this 3rd day of May 2002.
Eugene Scalia,
Solicitor of Labor.

April 22, 2002.

Memorandum for Frederico Juarbe, Jr. Assistant Secretary for Veterans' Employment and Training Services

From: Elaine Chao

Subject: Specific Delegation of Authority to the Assistant Secretary for Veterans' Employment and Training Services

Effective immediately, the Assistant Secretary for Veterans' Employment and Training Services is hereby delegated authority and assigned responsibilities for carrying out the functions and authority vested in the Secretary of Labor pursuant to the Uniformed Services Employment and Reemployment Rights Act of 1994 (USERRA), Pub. L. 103-353, 38 U.S.C. 4301-4333, and Section 3 of the Veterans Employment Opportunities Act of 1998 (VEOA), Pub. L. 105-339, 5 U.S.C. 3330a, except with regard to the preparation of reports and recommendations to the President and the Congress.

In addition, and also effective immediately, the Assistant Secretary for Veterans' Employment and Training Services is hereby delegated authority and assigned responsibility to invoke all appropriate claims of governmental privilege arising from the above functions of the Veterans' Employment and Training Services, following his personal consideration of the matter and in accordance with the following guidelines:

(a) Informant's Privilege (to protect from disclosure the identity of any person who has provided information to the Veterans' Employment and Training Services under USERRA and Section 3 of the VEOA): A claim of privilege may be asserted where the Assistant Secretary has determined that disclosure of the privileged matter may: (1) Interfere with the Veterans' Employment and Training Services' investigation or enforcement of a particular statue for which the Veterans' Employment and Training Services exercises investigative or enforcement authority; (2) adversely affect persons who have provided information to the Veterans' Employment and Training Services; or (3) deter other persons from reporting violations of the statutes.

(b) Deliberative Process Privilege (to withhold information which may disclose pre-decisional intra-agency or inter-agency deliberations, including the analysis and evaluation of fact, written summaries of factual evidence, and recommendations, opinions or advice on legal or policy matters in cases arising under USERRA and Section 3 of the VEOA): A claim of privilege may be asserted where the Assistant Secretary has determined that disclosure of the privileged matter would have an inhibiting effect on the agency's decision-making processes.

(c) Privilege for Investigational Files Compiled for Law Enforcement Purposes (to withhold information which may reveal the Veterans' Employment and Training Services' confidential investigative techniques and procedures): The investigative file privilege may be asserted where the Assistant Secretary has determined the disclosure of the privileged matter may have an adverse impact upon the Veterans' Employment and Training Services' enforcement of USERRA and Section 3 of the VEOA by: (1) Disclosing investigative techniques and methodologies; (2) deterring persons from providing information to the Veterans's Employment and Training Services; (3) prematurely revealing the facts of the Veterans Employment and Training Services' case; or (4) disclosing the identities of persons who have provided information under an express or implied promise of confidentiality.

(d) Prior to filing a formal claim of privilege, the Assistant Secretary shall personally review all documents sought to be withheld (or, in case where the volume is so large that all of them cannot be personally reviewed in a reasonable time, an adequate and representative sample of such documents), together with a description or summary of the litigation with which the disclosures is sought.

(e) In asserting a claim of governmental privilege, the Assistant Secretary may ask the Solicitor of Labor, or the Solicitor's representative, to file any necessary legal papers or documents.

[FR Doc. 02-11706 Filed 5-9-02; 8:45 am]

BILLING CODE 4510-79-M